DEPARTMENT OF HEALTH AND HUMAN SERVICES

Centers for Disease Control and Prevention

[30Day-16-0821]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Quarantine Station Illness Response Forms: Airline, Maritime, and Land/Border Crossing (OMB Control No. 0920-0821; expires 04/30/2016)—Revision—Division of Global Migration and Quarantine, National Center for Emerging Zoonotic and Infectious Diseases, Centers for Disease Control and Prevention (CDC).

Background and Brief Description

CDC is requesting approval for a revision to this existing information collection with the intent of ensuring that CDC can continue and improve the collection of pertinent information related to communicable disease or deaths that occur aboard conveyances during travel within the United States and into the United States from a foreign country, as authorized under 42 Code of Federal Regulations part 70 and 71, respectively.

Concerning routine operations, CDC is adjusting its estimates of respondents and burden associated with the use of the Air Travel, Maritime Conveyance, and Land Travel Illness or Death Investigation forms.

• CDC is requesting an increase in the number of respondents to the Air Travel Illness or Death Investigation form, from 1,626 respondents to 1,800. This results in an additional 14 hours of burden per year.

• CDC is requesting fewer respondents to the Maritime Conveyance Illness or Death Investigation Form, from 1,873 to 750 reports. This results in a decrease of 93 hours.

• CDC is requesting a decrease in the number of respondents to the Land Travel Illness or Death Investigation form, from 259 respondents to 100. This results in a decrease of 14 hours.

Also included are changes to account for the end of the entry risk assessment program for travelers entering the United States from the formerly Ebola affected countries. Responses to the United States Travelers Health Declaration and the Ebola Entry Risk Assessment Forms, including the Ill Traveler version, are no longer required for these travelers; therefore, CDC is requesting to remove these forms from this information collection. The changes are as follows:

• CDC is requesting the removal of 49,238 respondents to the United States Travel Health Declaration (English: Hard Copy, fillable PDF, electronic portal), resulting in a decrease of 12,310 burden hours.

• CDC is requesting the removal of 1,586 respondents to the United States Travel Health Declaration (French translation guide), with a decrease 397 burden hours.

• CDC is requesting the removal of 176 respondents for the United States Travel Health Declaration (Arabic translation guide), with a decrease of 44 burden hours.

The changes for the Ebola Risk Assessment Form are as follows:

• CDC is requesting the removal of 3,447 respondents to the Ebola Risk Assessment Form (English hard copy), and an associated decrease of 862 burden hours.

• CDC is requesting the removal of 111 respondents to the Ebola Risk Assessment French translation guide and a decrease of 28 burden hours.

• CDC is requesting the removal of 13 respondents to the Ebola Risk Assessment Arabic translation guide, and 3 fewer burden hours.

• CDC is requesting the removal of the Ebola Entry Screening Risk Assessment (Ill Traveler Interview), which decreases the number of respondents by 100 and the burden by 25 hours.

CDC is no longer requesting the use of this version of the IVR Active Monitoring Survey. Therefore, the following changes are requested:

• CDC is requesting the removal of 49,238 respondents to the IVR Active Monitoring Survey (English: Recorded), with 68,933 fewer burden hours.

• CDC is requesting the removal of 1,586 respondents to the IVR Active Monitoring Survey (French: Recorded) with a decrease of 2,220 hours of burden.

• CDC is requesting the removal of 176 respondents to the IVR Active Monitoring: Arabic translation assistance (no script), with a decrease of 246 burden hours.

These adjustments and changes result in a decrease of 85,161 burden hours.

CDC requests a total of 2,650 respondents and 221 burden hours annually. The respondents to these information collections are travelers and ship medical personnel. There is no cost to respondents other than the time required to provide the information requested.

Estimated Annualized Burden Hours
Respondent | Form | Number of respondents | Number of responses per respondent | Average burden per response (in minutes)
Traveler | Airline Travel Illness or Death Investigation Form | 1,800 | 1 | 5/60
Ship Medical Personnel | Maritime Conveyance Illness or Death Investigation Form | 750 | 1 | 5/60
Traveler | Land Travel Illness or Death Investigation Form | 100 | 1 | 5/60

Leroy A. Richardson,
Chief, Information Collection Review Office, Office of Scientific Integrity, Office of the Associate Director for Science, Office of the Director, Centers for Disease Control and Prevention.

[FR Doc. 2016-03821 Filed 2-23-16; 8:45 am]

BILLING CODE 4163-18-P